DEPARTMENT OF THE INTERIOR

Fish and Wildlife Service

50 CFR Part 17

RIN 1018-AU11

Endangered and Threatened Wildlife and Plants; Proposed Special Rule Pursuant to Section 4(d) of the Endangered Species Act for the Pacific Coast Distinct Population Segment of the Western Snowy Plover

AGENCY: Fish and Wildlife Service, Interior.

ACTION: Proposed rule; extension of comment period.

SUMMARY: We, the U.S. Fish and Wildlife Service (Service), are extending the public comment period on the proposed special rule for the threatened Pacific Coast distinct population segment of the western snowy plover (Charadrius alexandrinus nivosus). Comments previously submitted need not be resubmitted as they have been incorporated into the public record and will be fully considered in the final determination.

DATES: The public comment period for the proposed special rule published on April 21, 2006 (71 FR 20625) is extended to August 21, 2006. Any comments received after the closing date may not be considered in the final decision on the proposal.

ADDRESSES: You may submit comments and other information, identified by Attn: WSP-4(d), by any of the following methods:

• Mail or hand delivery/courier: Field Supervisor, Arcata Fish and Wildlife Office, U.S. Fish and Wildlife Service, 1655 Heindon Road, Arcata, California 95521.

• Fax: 707-822-8411.

• E-mail: fw8snowyplover@fws.gov. See Public Comments Solicited section below for file format and other information about electronic filing.

• Federal eRulemaking Portal: http://www.regulations.gov. Follow the instructions for submitting comments.

Comments and materials received for this rule will be available for public inspection, by appointment, during normal business hours at the Arcata Fish and Wildlife Office at the above address after the close of the comment period. Call 707-822-7201 to make arrangements.

FOR FURTHER INFORMATION CONTACT: Jim Watkins, Biologist, at the Arcata Fish and Wildlife Office (see ADDRESSES section), or via e-mail at jim_h_watkins@fws.gov; telephone 707-822-7201; fax 707-822-8411.

Public Comments Solicited

If you wish to comment, you may submit your comments and materials concerning the proposed special 4(d) rule by any one of several methods (see ADDRESSES section). Please submit Internet comments to fw8snowyplover@fws.gov in ASCII file format and avoid the use of special characters and any form of encryption. Please also include “Attn: WSP-4(d)” in your e-mail subject header and your name and return address in the body of your message. If you do not receive a confirmation from the system that we have received your Internet message, contact us directly by calling the person listed under FOR FURTHER INFORMATION CONTACT.

Our practice is to make comments, including names and home addresses of respondents, available for public review during regular business hours. Commenters may request that we withhold their home addresses from the rulemaking record, which we will honor to the extent allowed by law. There also may be circumstances in which we would withhold from the rulemaking record a commenter's identity, as allowable by law. If you wish us to withhold your name and/or address, you must state this prominently at the beginning of your comment. However, we will not consider anonymous comments. We will make all submissions from organizations or businesses, and from individuals identifying themselves as representatives or officials of organizations or businesses, available for public inspection in their entirety.

SUPPLEMENTARY INFORMATION:

Background

On April 21, 2006, the Service published a proposed special rule (71 FR 20625) under section 4(d) of the Endangered Species Act, as amended (16 U.S.C. 1531 et seq.) to promote the conservation of the Pacific Coast distinct population segment of the western snowy plover. The proposed special rule opened a 60-day public comment period, which was to end on June 20, 2006, on that action. Also on April 21, 2006, we published our not-warranted 12-month finding (71 FR 20607) on a petition to delist the Pacific Coast population of the western snowy plover. We have received requests from the public to view our records associated with the 12-month finding to help in their review of the proposed special 4(d) rule. To ensure that the public has sufficient opportunity to review the requested records, we are extending the comment period for the proposed special rule published on April 21, 2006, at 71 FR 20625, for an additional 60 days. Comments on the proposed special rule will be accepted through Monday, August 21, 2006.

Authority

The authority for this action is the Endangered Species Act of 1973, as amended (16 U.S.C. 1531 et seq.).

Dated: June 14, 2006.
Matt Hogan,
Acting Assistant Secretary for Fish and Wildlife and Parks.

[FR Doc. E6-9693 Filed 6-19-06; 8:45 am]

BILLING CODE 4310-55-P